ENVIRONMENTAL PROTECTION AGENCY

40 CFR Part 55

[EPA-R03-OAR-2011-0140; FRL- 9434-5 ]

Outer Continental Shelf Air Regulations Consistency Update for Virginia

AGENCY: Environmental Protection Agency (EPA).

ACTION: Direct final rule.

SUMMARY: EPA is taking direct final action to approve an update to a portion of the Outer Continental Shelf (OCS) Air Regulations. Requirements applying to OCS sources located within 25 miles of a State's seaward boundary must be updated periodically to maintain continuity and ensure consistency with the regulations of the corresponding onshore area (COA), as mandated by the Clean Air Act Amendments of 1990 (CAA). The specific portion of the OCS air regulation that is being updated pertains to the requirements for OCS sources in the Commonwealth of Virginia (Virginia). The intended effect of approving the OCS requirements for Virginia is to regulate emissions from OCS sources in accordance with the requirements onshore.

DATES: This rule is effective on September 19, 2011 without further notice, unless EPA receives adverse written comment by August 19, 2011. If adverse comments are received, EPA will publish a timely withdrawal of the direct final rule in the Federal Register and inform the public that the rule will not take effect. The incorporation by reference of certain publications listed in this rule is approved by the Director of the Federal Register as of September 19, 2011.

ADDRESSES: Submit your comments, identified by Docket ID Number EPA-R03-OAR-2011-0140 by one of the following methods:

1. http://www.regulations.gov: Follow the on-line instructions for submitting comments.

2. E-mail: cox.kathleen@epa.gov.

3. Mail: EPA-R03-OAR-2011-0140, Kathleen Cox, Associate Director, Office of Permits and Air Toxics, Mailcode 3AP10, U.S. Environmental Protection Agency, Region III, 1650 Arch Street, Philadelphia, Pennsylvania 19103.

4. Hand Delivery or Courier. At the previously-listed EPA Region III address. Such deliveries are only accepted during the Docket's normal hours of operation, and special arrangements should be made for deliveries of boxed information.

Instructions: Direct your comments to Docket ID No. EPA-R03-OAR-2011-0140. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Virginia Department of Environmental Quality, 629 East Main Street, Richmond, Virginia 23219.

FOR FURTHER INFORMATION CONTACT: Emlyn Vélez-Rosa, (215) 814-2038 or by e-mail at velez-rosa.emlyn@epa.gov.

SUPPLEMENTARY INFORMATION:

Table of Contents

I. Background and Purpose

II. EPA's Evaluation

III. Final Action

IV. Statutory and Executive Order Reviews

I. Background and Purpose

On September 4, 1992, EPA promulgated 40 CFR part 55, which established requirements to control air pollution from OCS sources in order to attain and maintain federal and state ambient air quality standards and to comply with the provisions of part C of title I of the CAA. Part 55 applies to all OCS sources offshore of the States except those located in the Gulf of Mexico west of 87.5 degrees longitude. Section 328 of the CAA requires that for such sources located within 25 miles of a State's seaward boundary, the requirements shall be the same as would be applicable if the source were located in the COA. Because the OCS requirements are based on onshore requirements, and onshore requirements may change, section 328(a)(1) requires that EPA update the OCS requirements as necessary to maintain consistency with onshore requirements.

To comply with this statutory mandate, EPA must incorporate applicable rules of the COA into 40 CFR part 55 as they exist onshore. This limits EPA's flexibility in deciding which requirements will be incorporated into part 55 and prevents EPA from making substantive changes to the requirements it incorporates. As a result, EPA may be incorporating rules into part 55 that do not conform to all EPA's state implementation plan (SIP) guidance or certain requirements of the CAA. Consistency updates may result in the inclusion of state or local rules or regulations into part 55, even though the same rules may ultimately be disapproved for inclusion as part of the SIP. Inclusion in the part 55 rule does not imply that a state or local rule meets the requirements of the CAA for SIP approval, nor does it imply that the state or local rule will be approved by EPA for inclusion in the SIP.

II. EPA's Evaluation

In updating 40 CFR part 55, EPA reviewed the state rules for inclusion in part 55 to ensure that they are rationally related to the attainment or maintenance of federal or state ambient air quality standards or part C of title I of the CAA; that they are not designed expressly to prevent exploration and development of the OCS; and that they are applicable to OCS sources. 40 CFR 55.1. EPA has also evaluated the rules to ensure they are not arbitrary or capricious. 40 CFR 55.12(e). In addition, EPA has excluded administrative or procedural rules.¹ In addition, EPA has excluded requirements that regulate toxics which are not related to the attainment and maintenance of federal and state ambient air quality standards.

¹ Each COA that has been delegated the authority to implement and enforce part 55 will use its administrative and procedural rules as onshore. However, in those instances where EPA has not delegated authority to implement and enforce part 55, EPA will use its own administrative and procedural requirements to implement the substantive requirements.

III. Final Action

EPA is taking direct final action to incorporate the applicable provisions of the Virginia Administrative Code (VAC) into 40 CFR part 55 as required under section 328(a)(1) of the CAA.

EPA is publishing this rule without prior proposal because the Agency views this as a non-controversial amendment and anticipates no adverse comment. However, in the “Proposed Rules” section of today's Federal Register, EPA is publishing a separate document that will serve as the proposal to approve this consistency update if adverse comments are filed. This rule will be effective on September 19, 2011 without further notice unless EPA receives adverse comment by August 19, 2011. If EPA receives adverse comment, EPA will publish a timely withdrawal in the Federal Register informing the public that the rule will not take effect. EPA will address all public comments in a subsequent final rule based on the proposed rule. EPA will not institute a second comment period on this action. Any parties interested in commenting must do so at this time.

IV. Statutory and Executive Order Reviews

Under the CAA, the Administrator is required to establish requirements to control air pollution from OCS sources located within 25 miles of States' seaward boundary that are the same as onshore air control requirements. To comply with this statutory mandate, EPA must incorporate applicable onshore rules into 40 CFR part 55 as they exist onshore. 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy discretion by EPA. For that reason, this action:

• Is not a “significant regulatory action” subject to review by the Office of Management and Budget under Executive Order 12866 (58 FR 51735, October 4, 1993);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., OMB has approved the information collection requirements contained in 40 CFR part 55 and, by extension, this update to the rules, and has assigned OMB control number 2060-0249. Notice of OMB's approval of EPA Information Collection Request (ICR) No. 1601.07 was published in the Federal Register on February 17, 2009 (74 FR 7432). The approval expires January 31, 2012. As EPA previously indicated (73 FR 66037 (November 6, 2008)), the annual public reporting and recordkeeping burden for collection of information under 40 CFR part 55 is estimated to average 112 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to, a collection of information unless it displays a currently valid OMB control number. The OMB control numbers for EPA's regulations in 40 CFR are listed in 40 CFR part 9 and are identified on the form and/or instrument, if applicable. In addition, the table in 40 CFR part 9 of currently approved OMB control numbers for various regulations lists the regulatory citations for the information requirements contained in 40 CFR part 55.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 19, 2011. Filing a petition for reconsideration by the Administrator of this final rule does not affect the finality of this action for the purposes of judicial review nor does it extend the time within which a petition for judicial review may be filed, and shall not postpone the effectiveness of such rule or action. This OCS consistency update action for Virginia may not be challenged later in proceedings to enforce its requirements. (See section 307(b)(2).)

List of Subjects in 40 CFR Part 55

Environmental protection, Administrative practice and procedure, Air pollution control, Continental Shelf, Incorporation by reference, Intergovernmental relations, Nitrogen dioxide, Ozone, Particulate matter, Reporting and recordkeeping requirements, Sulfur oxides.

Dated: June 3, 2011.
W.C. Early,
Acting Regional Administrator, Region III.

For the reasons stated in the preamble, title 40, chapter I of the Code of Federal Regulations, is amended as follows:

PART 55—[AMENDED]

1. The authority citation for part 55 continues to read as follows:

Authority: Section 328 of the CAA (42 U.S.C. 7401, et seq.) as amended by Public Law 101-549.

2. Section 55.14 is amended as follows:

a. By adding paragraph (d)(22).

b. By revising paragraph (e) introductory text.

c. By adding paragraph (e)(22).

§ 55.14 Requirements that apply to OCS sources located within 25 miles of States' seaward boundaries, by State.

* * * * *

(d) * * *

(22) Virginia.

(i) 40 CFR part 52, subpart VV.

(ii) [Reserved].

* * * * *

(e) State and local requirements. State and local requirements promulgated by EPA as applicable to OCS sources located within 25 miles of State's seaward boundaries have been compiled into separate documents organized by State and local areas of jurisdiction. These documents, set forth below, are incorporated by reference. This incorporation by reference was approved by the Director of the Federal Register Office in accordance with 5 U.S.C. 552 (a) and 40 CFR part 51. Copies may be inspected at the National Archives and Records Administration (NARA). For information on the availability of this material at NARA, call 202-741-6030 or go to: http://www.archives.gov/federal_register/code _of_federal_regulations/ibr_locations.html. Copies of rules pertaining to particular States or local areas may be inspected or obtained from the EPA Docket Center-Public Reading Room, EPA West Building, Room 3334, 1301 Constitution Avenue, NW., Washington, DC 20004 or the appropriate EPA regional offices: U.S. EPA, Region I (Massachusetts) 5 Post Office Square, Boston, MA 02109-3912; U.S.EPA, Region III (Delaware and Virginia) 1650 Arch Street, Philadelphia, PA 19103, (215) 814-5000; U.S. EPA, Region 4 (Florida and North Carolina), 61 Forsyth Street, Atlanta, GA 30303; U.S. EPA, Region 9 (California), 75 Hawthorne Street, San Francisco, CA 94105; and U.S. EPA Region 10 (Alaska), 1200 Sixth Avenue, Seattle, WA 98101. For an informational listing of the State and local requirements incorporated into this part, which are applicable to sources of air pollution located on the OCS, see appendix A to this part.

* * * * *

(22) Virginia.

(i) State requirements.

(A) Outer Continental Shelf Air Regulations Consistency Update for Virginia, in effect as of March 2, 2011.

(B) [Reserved].

(ii) Local requirements.

(A) [Reserved].

* * * * *

3. In Appendix A to part 55, add an entry for Virginia in alphabetical order to read as follows:

Appendix A to Part 55—Listing of State and Local Requirements Incorporated by Reference Into Part 55, By State

* * * * *

Virginia:

(a) State Requirements.

(1) The following Commonwealth of Virginia requirements are applicable to OCS Sources, March 2, 2011, Commonwealth of Virginia—Virginia Department of Environmental Quality. The following sections of Virginia Regulations for the Control and Abatement of Air Pollution Control (VAC), Title 9, Agency 5:

Chapter 10—General Definitions

(Effective 02/18/2010)

9VAC5-10-10. General.

9VAC5-10-20. Terms defined.

9VAC5-10-30. Abbreviations.

Chapter 20—General Provisions

(Effective 11/10/2010)

Part I—Administrative

9VAC5-20-10. Applicability.

9VAC5-20-21. Documents incorporated by reference.

9VAC5-20-50. Variances.

9VAC5-20-70. Circumvention.

9VAC5-20-80. Relationship of state regulations to federal regulations.

9VAC5-20-121. Air quality program policies and procedures.

Part II—Air Quality Programs

9VAC5-20-160. Registration.

9VAC5-20-170. Control programs.

9VAC5-20-180. Facility and control equipment maintenance or malfunction.

9VAC5-20-200. Air quality control regions.

9VAC5-20-201. Urban areas.

9VAC5-20-202. Metropolitan statistical areas.

9VAC5-20-203. Maintenance areas.

9VAC5-20-204. Nonattainment areas.

9VAC5-20-205. Prevention of significant deterioration areas.

9VAC5-20-206. Volatile organic compound and nitrogen oxides emission control areas.

9VAC5-20-220. Shutdown of a stationary source.

9VAC5-20-230. Certification of documents.

Chapter 30—Ambient Air Quality Standards

(Effective 08/18/2010)

9VAC5-30-10. General.

9VAC5-30-15. Reference conditions.

9VAC5-30-30. Sulfur oxides (sulfur dioxide).

9VAC5-30-40. Carbon monoxide.

9VAC5-30-50. Ozone (1-hour).

9VAC5-30-55. Ozone (8-hour, 0.08 ppm).

9VAC5-30-56. Ozone (8-hour, 0.075 ppm).

9VAC5-30-60. Particulate matter (PM10).

9VAC5-30-65. Particulate matter.

9VAC5-30-70. Oxides of nitrogen with nitrogen dioxide as the indicator.

9VAC5-30-80. Lead.

Chapter 40—Existing Stationary Sources

Part I—Special Provisions

(Effective 12/12/2007)

9VAC5-40-10. Applicability.

9VAC5-40-20. Compliance.

9VAC5-40-21. Compliance schedules.

9VAC5-40-22. Interpretation of emission standards based on process weight-rate tables.

9VAC5-40-30. Emission testing.

9VAC5-40-40. Monitoring.

9VAC5-40-41. Emission monitoring procedures for existing sources.

9VAC5-40-50. Notification, records and reporting.

Part II—Emission Standards

Article 1—Visible Emissions and Fugitive Dust/Emissions

(Effective 02/01/2003)

9VAC5-40-60. Applicability and designation of affected facility.

9VAC5-40-70. Definitions.

9VAC5-40-80. Standard for visible emissions.

9VAC5-40-90. Standard for fugitive dust/emissions.

9VAC5-40-100. Monitoring.

9VAC5-40-110. Test methods and procedures.

9VAC5-40-120. Waivers.

Article 4—General Process Operations

(Effective 12/15/2006)

9VAC5-40-240. Applicability and designation of affected facility.

9VAC5-40-250. Definitions.

9VAC5-40-260. Standard for particulate matter (AQCR 1-6).

9VAC5-40-270. Standard for particulate matter (AQCR 7).

9VAC5-40-280. Standard for sulfur dioxide.

9VAC5-40-290. Standard for hydrogen sulfide.

9VAC5-40-320. Standard for visible emissions.

9VAC5-40-330. Standard for fugitive dust/emissions.

9VAC5-40-350. Standard for toxic pollutants.

9VAC5-40-360. Compliance.

9VAC5-40-370. Test methods and procedures.

9VAC5-40-380. Monitoring.

9VAC5-40-390. Notification, records and reporting.

9VAC5-40-400. Registration.

9VAC5-40-410. Facility and control equipment maintenance or malfunction.

9VAC5-40-420. Permits.

Article 7—Incinerators

(Effective 01/01/1985)

9VAC5-40-730. Applicability and designation of affected facility.

9VAC5-40-740. Definitions.

9VAC5-40-750. Standard for particulate matter.

9VAC5-40-760. Standard for visible emissions.

9VAC5-40-770. Standard for fugitive dust/emissions.

9VAC5-40-790. Standard for toxic pollutants.

9VAC5-40-800. Prohibition of flue-fed incinerators.

9VAC5-40-810. Compliance.

9VAC5-40-820. Test methods and procedures.

9VAC5-40-830. Monitoring.

9VAC5-40-840. Notification, records and reporting.

9VAC5-40-850. Registration.

9VAC5-40-860. Facility and control equipment maintenance or malfunction.

9VAC5-40-870. Permits.

Article 8—Fuel Burning Equipment

(Effective 01/01/2002)

9VAC5-40-880. Applicability and designation of affected facility.

9VAC5-40-890. Definitions.

9VAC5-40-900. Standard for particulate matter.

9VAC5-40-910. Emission allocation system.

9VAC5-40-920. Determination of collection equipment efficiency factor.

9VAC5-40-930. Standard for sulfur dioxide.

9VAC5-40-940. Standard for visible emissions.

9VAC5-40-950. Standard for fugitive dust/emissions.

9VAC5-40-970. Standard for toxic pollutants.

9VAC5-40-980. Compliance.

9VAC5-40-990. Test methods and procedures.

9VAC5-40-1000. Monitoring.

9VAC5-40-1010. Notification, records and reporting.

9VAC5-40-1020. Registration.

9VAC5-40-1030. Facility and control equipment maintenance or malfunction.

9VAC5-40-1040. Permits.

Article 14—Sand-Gravel Processing; Stone Quarrying & Processing

(Effective 01/01/1985)

9VAC5-40-1820. Applicability and designation of affected facility.

9VAC5-40-1830. Definitions.

9VAC5-40-1840. Standard for particulate matter.

9VAC5-40-1850. Standard for visible emissions.

9VAC5-40-1860. Standard for fugitive dust/emissions.

9VAC5-40-1880. Standard for toxic pollutants.

9VAC5-40-1890. Compliance.

9VAC5-40-1900. Test methods and procedures.

9VAC5-40-1910. Monitoring.

9VAC5-40-1920. Notification, records and reporting.

9VAC5-40-1930. Registration.

9VAC5-40-1940. Facility and control equipment maintenance or malfunction.

9VAC5-40-1950. Permits.

Article 17—Woodworking Operations

(Effective 01/01/1985)

9VAC5-40-2250. Applicability and designation of affected facility.

9VAC5-40-2260. Definitions.

9VAC5-40-2270. Standard for particulate matter.

9VAC5-40-2280. Standard for visible emissions.

9VAC5-40-2290. Standard for fugitive dust/emissions.

9VAC5-40-2310. Standard for toxic pollutants.

9VAC5-40-2320. Compliance.

9VAC5-40-2330. Test methods and procedures.

9VAC5-40-2340. Monitoring.

9VAC5-40-2350. Notification, records and reporting.

9VAC5-40-2360. Registration.

9VAC5-40-2370. Facility and control equipment maintenance or malfunction.

9VAC5-40-2380. Permits.

Article 18—Primary and Secondary Metal Operations

(Effective 01/01/1985)

9VAC5-40-2390. Applicability and designation of affected facility.

9VAC5-40-2400. Definitions.

9VAC5-40-2410. Standard for particulate matter.

9VAC5-40-2420. Standard for sulfur oxides.

9VAC5-40-2430. Standard for visible emissions.

9VAC5-40-2440. Standard for fugitive dust/emissions.

9VAC5-40-2460. Standard for toxic pollutants.

9VAC5-40-2470. Compliance.

9VAC5-40-2480. Test methods and procedures.

9VAC5-40-2490. Monitoring.

9VAC5-40-2500. Notification, records and reporting.

9VAC5-40-2510. Registration.

9VAC5-40-2520. Facility and control equipment maintenance or malfunction.

9VAC5-40-2530. Permits.

Article 19—Lightweight Aggregate Process Operations

(Effective 01/01/1985)

9VAC5-40-2540. Applicability and designation of affected facility.

9VAC5-40-2550. Definitions.

9VAC5-40-2560. Standard for particulate matter.

9VAC5-40-2570. Standard for sulfur oxides.

9VAC5-40-2580. Standard for visible emissions.

9VAC5-40-2590. Standard for fugitive dust/emissions.

9VAC5-40-2610. Standard for toxic pollutants.

9VAC5-40-2620. Compliance.

9VAC5-40-2630. Test methods and procedures.

9VAC5-40-2640. Monitoring.

9VAC5-40-2650. Notification, records and reporting.

9VAC5-40-2660. Registration.

9VAC5-40-2670. Facility and control equipment maintenance or malfunction.

9VAC5-40-2680. Permits.

Article 24—Solvent Metal Cleaning Operations

(Effective 03/24/2004)

9VAC5-40-3260. Applicability and designation of affected facility.

9VAC5-40-3270. Definitions.

9VAC5-40-3280. Standard for volatile organic compounds.

9VAC5-40-3290. Control technology guidelines.

9VAC5-40-3300. Standard for visible emissions.

9VAC5-40-3310. Standard for fugitive dust/emissions.

9VAC5-40-3330. Standard for toxic pollutants.

9VAC5-40-3340. Compliance.

9VAC5-40-3350. Test methods and procedures.

9VAC5-40-3360. Monitoring.

9VAC5-40-3370. Notification, records and reporting.

9VAC5-40-3380. Registration.

9VAC5-40-3390. Facility and control equipment maintenance or malfunction.

9VAC5-40-3400. Permits.

Article 25—VOC Storage & Transfer Operations

(Effective 07/01/1991)

9VAC5-40-3410. Applicability and designation of affected facility.

9VAC5-40-3420. Definitions.

9VAC5-40-3430. Standard for volatile organic compounds.

9VAC5-40-3440. Control technology guidelines.

9VAC5-40-3450. Standard for visible emissions.

9VAC5-40-3460. Standard for fugitive dust/emissions.

9VAC5-40-3480. Standard for toxic pollutants.

9VAC5-40-3490. Compliance.

9VAC5-40-3500. Test methods and procedures.

9VAC5-40-3510. Monitoring.

9VAC5-40-3520. Notification, records and reporting.

9VAC5-40-3530. Registration.

9VAC5-40-3540. Facility and control equipment maintenance or malfunction.

9VAC5-40-3550. Permits.

Article 34—Miscellaneous Metal Parts/Products Coating Application

(Effective 07/01/1991)

9VAC5-40-4760. Applicability and designation of affected facility.

9VAC5-40-4770. Definitions.

9VAC5-40-4780. Standard for volatile organic compounds.

9VAC5-40-4790. Control technology guidelines.

9VAC5-40-4800. Standard for visible emissions.

9VAC5-40-4810. Standard for fugitive dust/emissions.

9VAC5-40-4830. Standard for toxic pollutants.

9VAC5-40-4840. Compliance.

9VAC5-40-4850. Test methods and procedures.

9VAC5-40-4860. Monitoring.

9VAC5-40-4870. Notification, records and reporting.

9VAC5-40-4880. Registration.

9VAC5-40-4890. Facility and control equipment maintenance or malfunction.

9VAC5-40-4900. Permits.

Article 37—Petroleum Liquid Storage and Transfer Operations

(Effective 10/04/2006)

9VAC5-40-5200. Applicability and designation of affected facility.

9VAC5-40-5210. Definitions.

9VAC5-40-5220. Standard for volatile organic compounds.

9VAC5-40-5230. Control technology guidelines.

9VAC5-40-5240. Standard for visible emissions.

9VAC5-40-5250. Standard for fugitive dust/emissions.

9VAC5-40-5270. Standard for toxic pollutants.

9VAC5-40-5280. Compliance.

9VAC5-40-5290. Test methods and procedures.

9VAC5-40-5300. Monitoring.

9VAC5-40-5310. Notification, records and reporting.

9VAC5-40-5320. Registration.

9VAC5-40-5330. Facility and control equipment maintenance or malfunction.

9VAC5-40-5340. Permits.

Article 41—Mobile Sources

(Effective 08/01/1991)

9VAC5-40-5650. Applicability and designation of affected facility.

9VAC5-40-5660. Definitions.

9VAC5-40-5670. Motor vehicles.

9VAC5-40-5680. Other mobile sources.

9VAC5-40-5690. Export/import of motor vehicles.

Article 42—Portable Fuel Container Spillage Control

(Effective 10/04/2006)

9VAC5-40-5700. Applicability.

9VAC5-40-5710. Definitions.

9VAC5-40-5720. Standard for volatile organic compounds.

9VAC5-40-5730. Administrative requirements.

9VAC5-40-5740. Compliance.

9VAC5-40-5750. Compliance schedule.

9VAC5-40-5760. Test methods and procedures.

9VAC5-40-5770. Notification, records and reporting.

Article 44—Hospital/medical/infectious Waste Incinerators

(Effective 07/01/2003)

9VAC5-40-6000. Applicability and designation of affected facility.

9VAC5-40-6010. Definitions.

9VAC5-40-6020. Standard for particulate matter.

9VAC5-40-6030. Standard for carbon monoxide.

9VAC5-40-6040. Standard for dioxins/furans.

9VAC5-40-6050. Standard for hydrogen chloride.

9VAC5-40-6060. Standard for sulfur dioxide.

9VAC5-40-6070. Standard for nitrogen oxides.

9VAC5-40-6080. Standard for lead.

9VAC5-40-6090. Standard for cadmium.

9VAC5-40-6100. Standard for mercury.

9VAC5-40-6110. Standard for visible emissions.

9VAC5-40-6120. Standard for fugitive dust/emissions.

9VAC5-40-6140. Standard for toxic pollutants.

9VAC5-40-6150. HMIWI operator training and qualification.

9VAC5-40-6160. Waste management plans.

9VAC5-40-6170. Inspections.

9VAC5-40-6180. Compliance, emissions testing, and monitoring.

9VAC5-40-6190. Recordkeeping and reporting.

9VAC5-40-6200. Compliance schedules.

9VAC5-40-6210. Registration.

9VAC5-40-6220. Facility and control equipment maintenance or malfunction.

9VAC5-40-6230. Permits.

Article 45—Commercial/Industrial Solid Waste Incinerators

(Effective 09/10/2003)

9VAC5-40-6250. Applicability and designation of affected facility.

9VAC5-40-6260. Definitions.

9VAC5-40-6270. Standard for particulate matter.

9VAC5-40-6280. Standard for carbon monoxide.

9VAC5-40-6290. Standard for dioxins/furans.

9VAC5-40-6300. Standard for hydrogen chloride.

9VAC5-40-6310. Standard for sulfur dioxide.

9VAC5-40-6320. Standard for nitrogen oxides.

9VAC5-40-6330. Standard for lead.

9VAC5-40-6340. Standard for cadmium.

9VAC5-40-6350. Standard for mercury.

9VAC5-40-6360. Standard for visible emissions.

9VAC5-40-6370. Standard for fugitive dust/emissions.

9VAC5-40-6390. Standard for toxic pollutants.

9VAC5-40-6400. Operator training and qualification.

9VAC5-40-6410. Waste management plan.

9VAC5-40-6420. Compliance schedule.

9VAC5-40-6421. Compliance schedule extension.

9VAC5-40-6422. Shutdown and restart.

9VAC5-40-6430. Operating limits.

9VAC5-40-6440. Facility and control equipment maintenance or malfunction.

9VAC5-40-6450. Test methods and procedures.

9VAC5-40-6460. Compliance.

9VAC5-40-6470. Monitoring.

9VAC5-40-6480. Recordkeeping and reporting.

9VAC5-40-6490. Requirements for air curtain incinerators.

9VAC5-40-6500. Registration.

9VAC5-40-6510. Permits.

Article 46—Small Municipal Waste Combustors

(Effective 05/04/2005)

9VAC5-40-6550. Applicability and designation of affected facility.

9VAC5-40-6560. Definitions.

9VAC5-40-6570. Standard for particulate matter.

9VAC5-40-6580. Standard for carbon monoxide.

9VAC5-40-6590. Standard for dioxins/furans.

9VAC5-40-6600. Standard for hydrogen chloride.

9VAC5-40-6610. Standard for sulfur dioxide.

9VAC5-40-6620. Standard for nitrogen oxides.

9VAC5-40-6630. Standard for lead.

9VAC5-40-6640. Standard for cadmium.

9VAC5-40-6650. Standard for mercury.

9VAC5-40-6660. Standard for visible emissions.

9VAC5-40-6670. Standard for fugitive dust/emissions.

9VAC5-40-6690. Standard for toxic pollutants.

9VAC5-40-6700. Operator training and certification.

9VAC5-40-6710. Compliance schedule.

9VAC5-40-6720. Operating requirements.

9VAC5-40-6730. Compliance.

9VAC5-40-6740. Test methods and procedures.

9VAC5-40-6750. Monitoring.

9VAC5-40-6760. Recordkeeping.

9VAC5-40-6770. Reporting.

9VAC5-40-6780. Requirements for air curtain incinerators that burn 100 percent yard waste.

9VAC5-40-6790. Registration.

9VAC5-40-6800. Facility and control equipment maintenance or malfunction.

9VAC5-40-6810. Permits.

Article 47—Solvent Cleaning

(Effective 03/24/2004)

9VAC5-40-6820. Applicability and designation of affected facility.

9VAC5-40-6830. Definitions.

9VAC5-40-6840. Standard for volatile organic compounds.

9VAC5-40-6850. Standard for visible emissions.

9VAC5-40-6860. Standard for fugitive dust/emissions.

9VAC5-40-6880. Standard for toxic pollutants.

9VAC5-40-6890. Compliance.

9VAC5-40-6900. Compliance schedules.

9VAC5-40-6910. Test methods and procedures.

9VAC5-40-6920. Monitoring.

9VAC5-40-6930. Notification, records and reporting.

9VAC5-40-6940. Registration.

9VAC5-40-6950. Facility and control equipment maintenance or malfunction.

9VAC5-40-6960. Permits.

Article 48—Mobile Equipment Repair and Refinishing

(Effective 10/04/2006)

9VAC5-40-6970. Applicability and designation of affected facility.

9VAC5-40-6980. Definitions.

9VAC5-40-6990. Standard for volatile organic compounds.

9VAC5-40-7000. Standard for visible emissions.

9VAC5-40-7010. Standard for fugitive dust/emissions.

9VAC5-40-7030. Standard for toxic pollutants.

9VAC5-40-7040. Compliance.

9VAC5-40-7050. Compliance schedule.

9VAC5-40-7060. Test methods and procedures.

9VAC5-40-7070. Monitoring.

9VAC5-40-7080. Notification, records and reporting.

9VAC5-40-7090. Registration.

9VAC5-40-7100. Facility and control equipment maintenance or malfunction.

9VAC5-40-7110. Permits.

Article 51—Stationary Sources Subject to Case-by-Case RACT Determinations

(Effective 01/20/2010)

9VAC5-40-7370. Applicability and designation of affected facility.

9VAC5-40-7380. Definitions.

9VAC5-40-7390. Standard for volatile organic compounds (1-hour ozone standard).

9VAC5-40-7400. Standard for volatile organic compounds (8-hour ozone standard).

9VAC5-40-7410. Standard for nitrogen oxides (1-hour ozone standard).

9VAC5-40-7420. Standard for nitrogen oxides (8-hour ozone standard).

9VAC5-40-7430. Presumptive reasonably available control technology guidelines for stationary sources of nitrogen oxides.

9VAC5-40-7440. Standard for visible emissions.

9VAC5-40-7450. Standard for fugitive dust/emissions.

9VAC5-40-7470. Standard for toxic pollutants.

9VAC5-40-7480. Compliance.

9VAC5-40-7490. Test methods and procedures.

9VAC5-40-7500. Monitoring.

9VAC5-40-7510. Notification, records and reporting.

9VAC5-40-7520. Registration.

9VAC5-40-7530. Facility and control equipment maintenance or malfunction.

9VAC5-40-7540. Permits.

Article 54—Large Municipal Waste Combustors

(Effective 07/01/2003)

9VAC5-40-7950. Applicability and designation of affected facility.

9VAC5-40-7960. Definitions.

9VAC5-40-7970. Standard for particulate matter.

9VAC5-40-7980. Standard for carbon monoxide.

9VAC5-40-7990. Standard for cadmium.

9VAC5-40-8000. Standard for lead.

9VAC5-40-8010. Standard for mercury.

9VAC5-40-8020. Standard for sulfur dioxide.

9VAC5-40-8030. Standard for hydrogen chloride.

9VAC5-40-8040. Standard for dioxin/furan.

9VAC5-40-8050. Standard for nitrogen oxides.

9VAC5-40-8060. Standard for visible emissions.

9VAC5-40-8070. Standard for fugitive dust/emissions.

9VAC5-40-8090. Standard for toxic pollutants.

9VAC5-40-8100. Compliance.

9VAC5-40-8110. Compliance schedules.

9VAC5-40-8120. Operating practices.

9VAC5-40-8130. Operator training and certification.

9VAC5-40-8150. Monitoring.

9VAC5-40-8170. Registration.

9VAC5-40-8180. Facility and control equipment maintenance or malfunction.

9VAC5-40-8190. Permits.

Chapter 50—New and Modified Stationary Sources

Part I—Special provisions

(Effective 12/12/2007)

9VAC5-50-10. Applicability.

9VAC5-50-20. Compliance.

9VAC5-50-30. Performance testing.

9VAC5-50-40. Monitoring.

9VAC5-50-50. Notification, records and reporting.

Part II—Emission Standards

Article 1—Visible emissions and fugitive dust/emissions

(Effective 02/01/2003)

9VAC5-50-60. Applicability and designation of affected facility.

9VAC5-50-70. Definitions.

9VAC5-50-80. Standard for visible emissions.

9VAC5-50-90. Standard for fugitive dust/emissions.

9VAC5-50-100. Monitoring.

9VAC5-50-110. Test methods and procedures.

9VAC5-50-120. Waivers.

Article 4—Stationary sources

(Effective 09/01/2006)

9VAC5-50-240. Applicability and designation of affected facility.

9VAC5-50-250. Definitions.

9VAC5-50-260. Standard for stationary sources.

9VAC5-50-270. Standard for major stationary sources (nonattainment areas).

9VAC5-50-280. Standard for major stationary sources (prevention of significant deterioration areas).

9VAC5-50-290. Standard for visible emissions.

9VAC5-50-300. Standard for fugitive dust/emissions.

9VAC5-50-320. Standard for toxic pollutants.

9VAC5-50-330. Compliance.

9VAC5-50-340. Test methods and procedures.

9VAC5-50-350. Monitoring.

9VAC5-50-360. Notification, records and reporting.

9VAC5-50-370. Registration.

9VAC5-50-380. Facility and control equipment maintenance or malfunction.

9VAC5-50-390. Permits.

Article 5—EPA New Source Performance Standards

(Effective 03/02/2011)

9VAC5-50-400. General.

9VAC5-50-405. Authority to implement and enforce standards as authorized by EPA.

9VAC5-50-410. Designated standards of performance.

9VAC5-50-420. Word or phrase substitutions.

Article 6—Medical waste incinerators

(Effective 06/01/1995)

9VAC5-50-430. Applicability and designation of affected facility.

9VAC5-50-440. Definitions.

9VAC5-50-450. Standard for particulate matter.

9VAC5-50-460. Standard for carbon monoxide.

9VAC5-50-470. Standard for hydrogen chloride.

9VAC5-50-480. Standard for dioxins and furans.

9VAC5-50-490. Standard for visible emissions.

9VAC5-50-500. Standard for fugitive dust/emissions.

9VAC5-50-520. Standard for toxic pollutants.

9VAC5-50-530. Standard for radioactive materials.

9VAC5-50-540. Compliance.

9VAC5-50-550. Test methods and procedures.

9VAC5-50-560. Monitoring.

9VAC5-50-570. Notification, records and reporting.

9VAC5-50-580. Registration.

9VAC5-50-590. Facility and control equipment maintenance or malfunction.

9VAC5-50-600. Permits.

Chapter 60—Hazardous Air Pollutant Sources

Part I—Special provisions

(Effective 08/01/2002)

9VAC5-60-10. Applicability.

9VAC5-60-20. Compliance.

9VAC5-60-30. Emission testing.

9VAC5-60-40. Monitoring.

9VAC5-60-50. Notification, records and reporting.

Part II—Emission Standards

Article 1—EPA National Emissions Standards for Hazardous Air Pollutants

(Effective 03/02/2011)

9VAC5-60-60. General.

9VAC5-60-65. Authority to implement and enforce standards as authorized by EPA.

9VAC5-60-70. Designated emission standards.

9VAC5-60-80. Word or phrase substitutions.

Article 2—EPA Maximum Achievable Control Technology Standards

(Effective 03/02/2011)

9VAC5-60-90. General.

9VAC5-60-92. Federal Hazardous Air Pollutant Program.

9VAC5-60-95. Authority to implement and enforce standards as authorized by EPA.

9VAC5-60-100. Designated emission standards.

9VAC5-60-110. Word or phrase substitutions.

Article 3—Control Technology Determinations for Major Sources of Hazardous Air Pollutants

(Effective 07/01/2004)

9VAC5-60-120. Applicability.

9VAC5-60-130. Definitions.

9VAC5-60-140. Approval process for new and existing affected sources.

9VAC5-60-150. Application content for case-by-case MACT determinations.

9VAC5-60-160. Preconstruction review procedures for new affected sources subject to 9VAC5-60-140C1.

9VAC5-60-170. Maximum achievable control technology (MACT) determinations for affected sources subject to case-by-case determination of equivalent emission limitations.

9VAC5-60-180. Requirements for case-by-case determination of equivalent emission limitations after promulgation of a subsequent MACT standard.

Article 4—Toxic Pollutants from Existing Sources

(Effective 05/01/2002)

9VAC5-60-200. Applicability and designation of affected facility.

9VAC5-60-210. Definitions.

9VAC5-60-220. Standard for toxic pollutants.

9VAC5-60-230. Significant ambient air concentration guidelines.

9VAC5-60-240. Submittal of information.

9VAC5-60-250. Determination of ambient air concentrations.

9VAC5-60-260. Compliance.

9VAC5-60-270. Public participation.

Article 5—Toxic Pollutants from New and Modified Sources

(Effective 05/01/2002)

9VAC5-60-300. Applicability and designation of affected facility.

9VAC5-60-310. Definitions.

9VAC5-60-320. Standard for toxic pollutants.

9VAC5-60-330. Significant ambient air concentration guidelines.

9VAC5-60-340. Submittal of information.

9VAC5-60-350. Determination of ambient air concentrations.

9VAC5-60-360. Compliance.

9VAC5-60-370. Public participation.

Chapter 70—Air Pollution Episode Prevention

(Effective 04/01/1999)

9VAC5-70-10. Applicability.

9VAC5-70-20. Definitions.

9VAC5-70-30. General.

9VAC5-70-40. Episode determination.

9VAC5-70-50. Standby emission reduction plans.

9VAC5-70-60. Control requirements.

9VAC5-70-70. Local air pollution control agency participation.

Chapter 80—Permits for Stationary Sources

Part I—Permit Actions and Public Hearings Before the Board

(Effective 11/12/2009)

9VAC5-80-5. Definitions.

9VAC5-80-15. Applicability.

9VAC5-80-25. Direct consideration of permit actions by the board.

9VAC5-80-35. Public hearings to contest permit actions.

Part II—Permit Procedures

Article 1—Federal (Title V) Operating Permits for Stationary Sources

(Effective 03/02/2011)

9VAC5-80-50. Applicability.

9VAC5-80-60. Definitions.

9VAC5-80-70. General.

9VAC5-80-80. Applications.

9VAC5-80-90. Application information required.

9VAC5-80-100. Emission caps.

9VAC5-80-110. Permit content.

9VAC5-80-120. General permits.

9VAC5-80-130. Temporary sources.

9VAC5-80-140. Permit shield.

9VAC5-80-150. Action on permit application.

9VAC5-80-160. Transfer of permits.

9VAC5-80-170. Permit renewal and expiration.

9VAC5-80-180. Permanent shutdown for emissions trading.

9VAC5-80-190. Changes to permits.

9VAC5-80-200. Administrative permit amendments.

9VAC5-80-210. Minor permit modifications.

9VAC5-80-220. Group processing of minor permit modifications.

9VAC5-80-230. Significant modification procedures.

9VAC5-80-240. Reopening for cause.

9VAC5-80-250. Malfunction.

9VAC5-80-260. Enforcement.

9VAC5-80-270. Public participation.

9VAC5-80-280. Operational flexibility.

9VAC5-80-290. Permit review by EPA and affected states.

9VAC5-80-300. Voluntary inclusions of additional state-only requirements as applicable state requirements in the permit.

Article 2—Permit Program (Title V) Fees for Stationary Sources

(Effective 07/18/2001)

9VAC5-80-310. Applicability.

9VAC5-80-320. Definitions.

9VAC5-80-330. General.

9VAC5-80-340. Annual permit program fee calculation.

9VAC5-80-350. Annual permit program fee payment.

Article 4—Insignificant Activities

(Effective 01/01/2001)

9VAC5-80-710. General.

9VAC5-80-720. Insignificant activities.

Article 5—State Operating Permits

(Effective 12/31/2008)

9VAC5-80-800. Applicability.

9VAC5-80-810. Definitions.

9VAC5-80-820. General.

9VAC5-80-830. Applications.

9VAC5-80-840. Application information required.

9VAC5-80-850. Standards and conditions for granting permits.

9VAC5-80-860. Action on permit application.

9VAC5-80-870. Application review and analysis.

9VAC5-80-880. Compliance determination and verification by testing.

9VAC5-80-890. Monitoring requirements.

9VAC5-80-900. Reporting requirements.

9VAC5-80-910. Existence of permit no defense.

9VAC5-80-920. Circumvention.

9VAC5-80-930. Compliance with local zoning requirements.

9VAC5-80-940. Transfer of permits.

9VAC5-80-950. Termination of permits.

9VAC5-80-960. Changes to permits.

9VAC5-80-970. Administrative permit amendments.

9VAC5-80-980. Minor permit amendments.

9VAC5-80-990. Significant amendment procedures.

9VAC5-80-1000. Reopening for cause.

9VAC5-80-1010. Enforcement.

9VAC5-80-1020. Public participation.

9VAC5-80-1030. General permits.

9VAC5-80-1040. Review and evaluation of article.

Article 6—Permits for New and Modified Stationary Sources

(Effective 06/24/2009)

9VAC5-80-1100. Applicability.

9VAC5-80-1110. Definitions.

9VAC5-80-1120. General.

9VAC5-80-1140. Applications.

9VAC5-80-1150. Application information required.

9VAC5-80-1160. Action on permit application.

9VAC5-80-1170. Public participation.

9VAC5-80-1180. Standards and conditions for granting permits.

9VAC5-80-1190. Application review and analysis.

9VAC5-80-1200. Compliance determination and verification by performance testing.

9VAC5-80-1210. Permit invalidation, suspension, revocation and enforcement.

9VAC5-80-1220. Existence of permit no defense.

9VAC5-80-1230. Compliance with local zoning requirements.

9VAC5-80-1240. Transfer of permits.

9VAC5-80-1250. General permits.

9VAC5-80-1260. Changes to permits.

9VAC5-80-1270. Administrative permit amendments.

9VAC5-80-1280. Minor permit amendments.

9VAC5-80-1290. Significant amendment procedures.

9VAC5-80-1300. Reopening for cause.

9VAC5-80-1320. Permit exemption levels.

Article 7—Permits for New and Reconstructed Major Sources of HAPs

(Effective 12/31/2008)

9VAC5-80-1400. Applicability.

9VAC5-80-1410. Definitions.

9VAC5-80-1420. General.

9VAC5-80-1430. Applications.

9VAC5-80-1440. Application information required.

9VAC5-80-1450. Action on permit application.

9VAC5-80-1460. Public participation.

9VAC5-80-1470. Standards and conditions for granting permits.

9VAC5-80-1480. Application review and analysis.

9VAC5-80-1490. Compliance determination and verification by performance testing.

9VAC5-80-1500. Permit invalidation, rescission, revocation and enforcement.

9VAC5-80-1510. Existence of permit no defense.

9VAC5-80-1520. Compliance with local zoning requirements.

9VAC5-80-1530. Transfer of permits.

9VAC5-80-1540. Changes to permits.

9VAC5-80-1550. Administrative permit amendments.

9VAC5-80-1560. Minor permit amendments.

9VAC5-80-1570. Significant amendment procedures.

9VAC5-80-1580. Reopening for cause.

9VAC5-80-1590. Requirements for constructed or reconstructed major sources subject to a subsequently promulgated MACT standard or MACT requirements.

Article 8—Permits for Major Stationary Sources and Modifications—PSD Areas

(Effective 03/02/2011)

9VAC5-80-1605. Applicability.

9VAC5-80-1615. Definitions.

9VAC5-80-1625. General.

9VAC5-80-1635. Ambient air increments.

9VAC5-80-1645. Ambient air ceilings.

9VAC5-80-1655. Applications.

9VAC5-80-1665. Compliance with local zoning requirements.

9VAC5-80-1675. Compliance determination and verification by performance testing.

9VAC5-80-1685. Stack heights.

9VAC5-80-1695. Exemptions.

9VAC5-80-1705. Control technology review.

9VAC5-80-1715. Source impact analysis.

9VAC5-80-1725. Air quality models.

9VAC5-80-1735. Air quality analysis.

9VAC5-80-1745. Source information.

9VAC5-80-1755. Additional impact analyses.

9VAC5-80-1765. Sources affecting federal class I areas—additional requirements.

9VAC5-80-1773. Action on permit application.

9VAC5-80-1775. Public participation.

9VAC5-80-1785. Source obligation.

9VAC5-80-1795. Environmental impact statements.

9VAC5-80-1805. Disputed permits.

9VAC5-80-1815. Interstate pollution abatement.

9VAC5-80-1825. Innovative control technology.

9VAC5-80-1865. Actuals plantwide applicability limits (PALs).

9VAC5-80-1915. Actions to combine permit terms and conditions.

9VAC5-80-1925. Actions to change permits.

9VAC5-80-1935. Administrative permit amendments.

9VAC5-80-1945. Minor permit amendments.

9VAC5-80-1955. Significant amendment procedures.

9VAC5-80-1965. Reopening for cause.

9VAC5-80-1975. Transfer of permits.

9VAC5-80-1985. Permit invalidation, suspension, revocation, and enforcement.

9VAC5-80-1995. Existence of permit no defense.

Article 9—Permits for Major Stationary Sources and Modifications—Nonattainment Areas

(Effective 03/02/2011)

9VAC5-80-2000. Applicability.

9VAC5-80-2010. Definitions.

9VAC5-80-2020. General.

9VAC5-80-2030. Applications.

9VAC5-80-2040. Application information required.

9VAC5-80-2050. Standards and conditions for granting permits.

9VAC5-80-2060. Action on permit application.

9VAC5-80-2070. Public participation.

9VAC5-80-2080. Compliance determination and verification by performance testing.

9VAC5-80-2090. Application review and analysis.

9VAC5-80-2091. Source obligation.

9VAC5-80-2110. Interstate pollution abatement.

9VAC5-80-2120. Offsets.

9VAC5-80-2130. De minimis increases and stationary source modification alternatives for ozone nonattainment areas classified as serious or severe in 9VAC5-20-204.

9VAC5-80-2140. Exemptions.

9VAC5-80-2144. Actuals plantwide applicability limits (PALs).

9VAC5-80-2150. Compliance with local zoning requirements.

9VAC5-80-2170. Transfer of permits.

9VAC5-80-2180. Permit invalidation, suspension, revocation and enforcement.

9VAC5-80-2190. Existence of permit no defense.

9VAC5-80-2195. Actions to combine permit terms and conditions.

9VAC5-80-2200. Actions to change permits.

9VAC5-80-2210. Administrative permit amendments.

9VAC5-80-2220. Minor permit amendments.

9VAC5-80-2230. Significant amendment procedures.

9VAC5-80-2240. Reopening for cause.

Article 10—Permit Application Fees for Stationary Sources

(Effective 12/01/2004)

9VAC5-80-2250. Applicability.

9VAC5-80-2260. Definitions.

9VAC5-80-2270. General.

9VAC5-80-2280. Permit application fee calculation.

9VAC5-80-2290. Permit application fee payment.

9VAC5-80-2300. Credit for payment of permit application fees.

Chapter 85—Permits for Stationary Sources of Pollutants Subject to Regulation (Greenhouse Gas Tailoring)

(Effective 01/02/2011)

Part I—Applicability

9VAC5-85-10. Applicability.

Part II—Federal (Title V) operating permit actions

9VAC5-85-20. Federal (Title V) operating permit actions.

9VAC5-85-30. Definitions.

Part III—Prevention of Significant Deterioration Area permit actions

9VAC5-85-40. Prevention of significant deterioration area permit actions.

9VAC5-85-50. Definitions.

Part IV—State operating permit actions

9VAC5-85-60. State operating permit actions.

9VAC5-85-70. Definitions.

Chapter 130—Open Burning

(Effective 03/18/2009)

Part I—General Provisions

9VAC5-130-10. Applicability.

9VAC5-130-20. Definitions.

9VAC5-130-30. Open burning prohibitions.

9VAC5-130-40. Permissible open burning.

9VAC5-130-50. Forest management and agricultural practices.

9VAC5-130-60. Waivers.

Part II—Local Ordinances

9VAC5-130-100. Local ordinances on open burning.

Chapter 150—Transportation Conformity

(Effective 01/01/1998)

Part I—General Definitions

9VAC5-150-10. General.

9VAC5-150-20. Terms defined.

Part II—General Provisions

9VAC5-150-30. Applicability.

9VAC5-150-40. Authority of board and DEQ.

9VAC5-150-80. Relationship of state regulations to federal regulations.

Part III—Criteria and Procedures for Making Conformity Determinations

9VAC5-150-110. Priority.

9VAC5-150-120. Frequency of conformity determinations.

9VAC5-150-130. Consultation.

9VAC5-150-140. Content of transportation plans.

9VAC5-150-150. Relationship of transportation plan and TIP conformity with the NEPA process.

9VAC5-150-160. Fiscal constraints for transportation plans and TIPs.

9VAC5-150-170. Criteria and procedures for determining conformity of transportation plans, programs, and projects: General.

9VAC5-150-180. Criteria and procedures: latest planning assumptions.

9VAC5-150-190. Criteria and procedures: latest emissions model.

9VAC5-150-200. Criteria and procedures: consultation.

9VAC5-150-210. Criteria and procedures: timely implementation of TCMs.

9VAC5-150-220. Criteria and procedures: currently conforming transportation plan and TIP.

9VAC5-150-230. Criteria and procedures: projects from a plan and TIP.

9VAC5-150-240. Criteria and procedures: localized CO and PM10 violations (hot spots).

9VAC5-150-250. Criteria and procedures: compliance with PM10 control measures.

9VAC5-150-260. Criteria and procedures: motor vehicle emissions budget (transportation plan).

9VAC5-150-270. Criteria and procedures: motor vehicle emissions budget (TIP).

9VAC5-150-280. Criteria and procedures: motor vehicle emissions budget (project not from a plan and TIP).

9VAC5-150-290. Criteria and procedures: localized CO violations (hot spots) in the interim period.

9VAC5-150-300. Criteria and procedures: interim period reductions in ozone and CO areas (transportation plan).

9VAC5-150-310. Criteria and procedures: interim period reductions in ozone and CO areas (TIP).

9VAC5-150-320. Criteria and procedures: interim period reductions for ozone and CO areas (project not from a plan and TIP).

9VAC5-150-330. Criteria and procedures: interim period reductions for PM10 and NO2 areas (transportation plan).

9VAC5-150-340. Criteria and procedures: interim period reductions for PM10 and NO2 areas (TIP).

9VAC5-150-350. Criteria and procedures: interim period reductions for PM10 and NO2 areas (project not from a plan and TIP).

9VAC5-150-360. Transition from the interim period to the control strategy period.

9VAC5-150-370. Requirements for adoption or approval of projects by recipients of funds designated under Title 23 USC or the Federal Transit Act.

9VAC5-150-380. Procedures for determining regional transportation-related emissions.

9VAC5-150-390. Procedures for determining localized CO and PM10 concentrations (hot-spot analysis).

9VAC5-150-400. Using the motor vehicle emissions budget in the applicable implementation plan (or implementation plan submission).

9VAC5-150-410. Enforceability of design concept and scope and project-level mitigation and control measures.

9VAC5-150-420. Exempt projects.

9VAC5-150-430. Projects exempt from regional emissions analyses.

9VAC5-150-440. Special provisions for nonattainment areas which are not required to demonstrate reasonable further progress and attainment.

9VAC5-150-450. Review and confirmation of this chapter by board.

Chapter 151—Transportation Conformity

(Effective 03/02/2011)

Part I—General Definitions

9VAC5-151-10. Definitions.

Part II—General Provisions

9VAC5-151-20. Applicability.

9VAC5-151-30. Authority of board and DEQ.

Part III—Criteria and Procedures for Making Conformity Determinations

9VAC5-151-40. General.

9VAC5-151-50. Designated provisions.

9VAC5-151-60. Word or phrase substitutions.

9VAC5-151-70. Consultation.

Chapter 160—General Conformity

(Effective 03/02/2011)

Part I—General Definitions

9VAC5-160-10. General.

9VAC5-160-20. Terms defined.

Part II—General Provisions

9VAC5-160-30. Applicability.

9VAC5-160-40. Authority of board and department.

9VAC5-160-80. Relationship of state regulations to federal regulations.

Part III—Criteria and procedures for making conformity determinations

9VAC5-160-110. General.

9VAC5-160-120. Conformity analysis.

9VAC5-160-130. Reporting requirements.

9VAC5-160-140. Public participation.

9VAC5-160-150. Frequency of conformity determinations.

9VAC5-160-160. Criteria for determining conformity.

9VAC5-160-170. Procedures for conformity determinations.

9VAC5-160-180. Mitigation of air quality impacts.

9VAC5-160-190. Savings provision.

9VAC5-160-200. Review and confirmation of this chapter by board.

Chapter 500—Exclusionary General Permit for Title V Permit

(Effective 07/01/1997)

Part I—Definitions

9VAC5-500-10. General.

9VAC5-500-20. Terms defined.

Part II—General Provisions

9VAC5-500-30. Purpose.

9VAC5-500-40. Applicability.

9VAC5-500-50. General.

9VAC5-500-60. Existence of permit no defense.

9VAC5-500-70. Circumvention.

9VAC5-500-80. Enforcement of a general permit.

Part III—General permit administrative procedures

9VAC5-500-90. Requirements for department issuance of authority to operate under the general permit.

9VAC5-500-100. Applications for coverage under the general permit.

9VAC5-500-110. Required application information.

9VAC5-500-120. General permit content.

9VAC5-500-130. Issuance of an authorization to operate under the general permit.

9VAC5-500-140. Transfer of authorizations to operate under the general permit.

Part IV—General permit terms and conditions

9VAC5-500-150. Emissions levels and requirements.

9VAC5-500-160. Emissions levels.

9VAC5-500-170. Compliance determination and verification by emission testing.

9VAC5-500-180. Compliance determination and verification by emission monitoring.

9VAC5-500-190. Recordkeeping requirements.

9VAC5-500-200. Reporting requirements.

9VAC5-500-210. Compliance certifications.

9VAC5-500-220. Consequences of failure to remain below emissions levels.

9VAC5-500-230. Enforcement.

9VAC5-500-240. Review and evaluation of regulation.

(2) [Reserved]

* * * * *

[FR Doc. 2011-18133 Filed 7-19-11; 8:45 am]

BILLING CODE 6560-50-P